FEDERAL MARITIME COMMISSION

[Docket No. 21-10]

Notice of Filing of Complaint and Assignment; Orange Avenue Express, Inc., Complainant v. Hapag Lloyd AG, Respondent

Served: December 8, 2021.

Notice is given that a complaint has been filed with the Federal Maritime Commission (Commission) by Orange Avenue Express, Inc., hereinafter “Complainant”, against Hapag Lloyd AG “Respondent”. Complainant alleges that Respondent Hapag Lloyd AG is a German ocean common carrier.

Complainant alleges that Respondent violated 46 U.S.C. § 41102(c) and 46 U.S.C. 41104(a)(3) and (8) with regard to the movement of refrigerated containers. The full text of the complaint can be found in the Commission's Electronic Reading Room at https://www2.fmc.gov/readingroom/proceeding/21-10/.

This proceeding has been assigned to Office of Administrative Law Judges. The initial decision of the presiding office in this proceeding shall be issued by December 8, 2022, and the final decision of the Commission shall be issued by June 22, 2023.

JoAnne O'Bryant,
Program Analyst.

[FR Doc. 2021-26992 Filed 12-13-21; 8:45 am]

BILLING CODE 6730-02-P